DEPARTMENT OF COMMERCE

International Trade Administration

[A-583-854]

Certain Steel Nails From Taiwan: Preliminary Results of Antidumping Duty Administrative Review, Preliminary Determination of No Shipments, Preliminary Determination of No Reviewable Sales, and Partial Rescission of Review; 2021-2022

AGENCY: Enforcement and Compliance, International Trade Administration, Department of Commerce.

SUMMARY: The U.S. Department of Commerce (Commerce) preliminarily finds that Your Standing International, Inc. (YSI), Shang Jeng Nail Co., Ltd. (Shang Jeng), World Kun Company Limited (World Kun), and the non-individually-examined companies for which a review was requested made sales of certain steel nails (nails) from Taiwan at prices below normal value (NV) during the period of review (POR), July 1, 2021, through June 30, 2022. Commerce also preliminarily finds that three companies, Concord International Engineering & Trading Co., Ltd. (Concord International), Wiresmith Industrial Co., Ltd. (Wiresmith), and Create Trading Co., Ltd. (Create Trading) had no reviewable sales of nails from Taiwan during the POR, and four other companies made no shipments of subject merchandise during the POR. We invite interested parties to comment on these preliminary results.

DATES: Applicable August 3, 2023.

FOR FURTHER INFORMATION CONTACT: Faris Montgomery, AD/CVD Operations, Office VIII, Enforcement and Compliance, International Trade Administration, U.S. Department of Commerce, 1401 Constitution Avenue NW, Washington, DC 20230; telephone: (202) 482-1537.

SUPPLEMENTARY INFORMATION:

Background

On July 13, 2015, Commerce published the antidumping duty order on nails from Taiwan.¹ On September 6, 2022, in accordance with 19 CFR 351.221(c)(1)(i), Commerce initiated an administrative review of the Order.² Pursuant to section 751(a)(3)(A) of the Tariff Act of 1930, as amended (the Act), on March 8, 2023, Commerce determined that it was not practicable to complete the preliminary results of this review within 245 days and extended the deadline for the preliminary results of this review by 117 days, until July 28, 2023.³

¹ See Certain Steel Nails from the Republic of Korea, Malaysia, the Sultanate of Oman, Taiwan, and the Socialist Republic of Vietnam: Antidumping Duty Orders, 80 FR 39994 (July 13, 2015) (Order).

² See Initiation of Antidumping and Countervailing Duty Administrative Reviews, 87 FR 54463 (September 6, 2022) (Initiation Notice).

³ See Memorandum, “Extension of Deadline for Preliminary Results of Antidumping Duty Administrative Review,” dated March 8, 2023.

For a detailed description of the events that followed the initiation of this review, see the Preliminary Decision Memorandum.⁴ A list of topics discussed in the Preliminary Decision Memorandum is included as Appendix I to this notice. The Preliminary Decision Memorandum is a public document and is available via Enforcement and Compliance's Antidumping and Countervailing Duty Centralized Electronic Service System (ACCESS). ACCESS is available to registered users at https://access.trade.gov. In addition, a complete version of the Preliminary Decision Memorandum can be found at https://access.trade.gov/public/FRNoticesListLayout.aspx.

⁴ See Memorandum, “Decision Memorandum for the Preliminary Results of the Administrative Review of the Antidumping Duty Order on Certain Steel Nails from Taiwan; 2021-2022,” dated concurrently with, and hereby adopted by, this notice (Preliminary Decision Memorandum).

Scope of the Order

The merchandise covered by this Order are certain steel nails from Taiwan. The certain steel nails subject to the Order are currently classifiable under Harmonized Tariff Schedule of the United States (HTSUS) subheadings 7317.00.55.02, 7317.00.55.03, 7317.00.55.05, 7317.00.55.07, 7317.00.55.08, 7317.00.55.11, 7317.00.55.18, 7317.00.55.19, 7317.00.55.20, 7317.00.55.30, 7317.00.55.40, 7317.00.55.50, 7317.00.55.60, 7317.00.55.70, 7317.00.55.80, 7317.00.55.90, 7317.00.65.30, 7317.00.65.60 and 7317.00.75.00. Certain steel nails subject to this Order also may be classified under HTSUS subheadings 7907.00.60.00, 8206.00.00.00 or other HTSUS subheadings. Although the HTSUS subheadings are provided for convenience and for customs purposes, the written product description, available in the Preliminary Decision Memorandum, remains dispositive.

Partial Rescission of Review

Pursuant to 19 CFR 351.213(d)(1), Commerce will rescind an administrative review, in whole or in part, if the party that requested the review withdraws its request within 90 days of the publication of the notice of initiation of the requested review. Because all requests for administrative review of Faithful Engineering Products Co., Ltd. were withdrawn by interested parties within 90 days of the date of publication of the Initiation Notice, Commerce is rescinding this review with respect to this company, in accordance with 19 CFR 351.213(d)(1). The administrative review remains active with respect to 140 companies.

Methodology

Commerce is conducting this review in accordance with section 751(a) of the Act. Export price is calculated in accordance with section 772 of the Act. NV is calculated in accordance with section 773 of the Act. For a full description of the methodology underlying these preliminary results, see the Preliminary Decision Memorandum.

Preliminary Determination of No Shipments

Commerce received no-shipment certifications from four companies: Astrotech Steels Private Limited (Astrotech); Region Systems Sdn. Bhd (Region Systems); Region Industries Co., Ltd. (Region Industries); and Region International Co. Ltd. (Region International). To confirm these companies' no-shipment claims, Commerce issued a no-shipment inquiry to U.S. Customs and Border Protection (CBP) and received no contradictory information.⁵ Therefore, we preliminarily determine that these four companies did not have any shipments of subject merchandise during the POR. Consistent with Commerce's practice, we will not rescind the review with respect to these companies, but, rather, will complete the review and issue appropriate assessment instructions based on the final results.

⁵ See Memorandum, “No Shipment Inquiry for Various Companies During the Period 07/01/2021 through 06/30/2022,” dated July 19, 2023.

Preliminary Determination of No Reviewable Sales

Wiresmith and Create Trading are resellers of subject merchandise that reported that they had no reviewable sales or shipments during the POR. The resellers provided sales documentation, such as invoices and packing lists from their unaffiliated suppliers, as well as accounting records as evidence in support of their claims. Additionally, mandatory respondent Concord International provided timely responses to Commerce's antidumping duty questionnaire and supplemental questionnaires. Concord International reported in its questionnaire responses that its unaffiliated supplier had knowledge that the steel nails they produced and sold to it were destined for the United States.

Based on the information provided by Wiresmith, Create Trading, and Concord International, we preliminarily determine that these three companies were not the first parties in the transaction chain to have knowledge that the subject merchandise was destined for the United States and, thus, Wiresmith, Create Trading, and Concord International are not considered the exporters of subject merchandise during the POR for purposes of this review. Specifically, the record demonstrates that Wiresmith, Create Trading, and Concord International's respective unaffiliated suppliers had knowledge that the steel nails they produced and sold to the resellers were destined for the United States. Thus, we preliminarily determine that Wiresmith, Create Trading, and Concord International had no reviewable sales of subject merchandise during the POR.

Commerce finds that, based on the clarification in the 2003 Assessment of Antidumping Duties ⁶ notice regarding the reseller policy, we will not rescind the review in these circumstances but, rather, complete the review with respect to the resellers and issue appropriate instructions to CBP after the completion of the review.⁷ Specifically, we preliminarily find it appropriate in this case to instruct CBP at the completion of the review to liquidate any existing entries of subject merchandise produced and exported by the resellers' respective unaffiliated suppliers at the rate applicable to the unaffiliated producers, or the all-others rate if there is no rate for the unaffiliated producers.⁸

⁶ See Antidumping and Countervailing Duty Proceedings: Assessment of Antidumping Duties, 68 FR 23954 (May 6, 2003) (Assessment of Antidumping Duties).

⁷ Id.

⁸ See, e.g., Certain Frozen Warmwater Shrimp from India: Partial Rescission of Antidumping Duty Administrative Review, 73 FR 77610, 77612 (December 19, 2008); Certain Pasta from Turkey: Notice of Preliminary Results of Antidumping Duty Administrative Review, 76 FR 23974, 23977 (April 29, 2011), unchanged in Pasta from Turkey: Notice of Final Results of the 14th Antidumping Duty Administrative Review, 76 FR 68399 (November 4, 2011); see also Certain Steel Nails from Taiwan: Preliminary Results of Antidumping Duty Administrative Review, Preliminary Determination of No Shipments, and Partial Rescission of Review; 2020-2021, 87 FR 35734, 35736 (June 13, 2022), unchanged in Certain Steel Nails from Taiwan: Final Results of Antidumping Duty Administrative Review and Final Determination of No Shipments; 2020-2021, 87 FR 63034, 63035 (October 18, 2022).

Facts Available

Pursuant to section 776(a)(1) and 776(a)(2)(A)-(C) of the Act, Commerce is preliminarily relying upon facts otherwise available to assign estimated dumping margins to mandatory respondents Shang Jeng and World Kun because both companies were unresponsive to our requests for information, thereby withholding necessary information that was requested by Commerce, failing to provide the information requested by the specified deadlines in the form and manner requested, and significantly impeding the conduct of the review. Further, Commerce preliminarily finds that Shang Jeng and World Kun failed to cooperate by not acting to the best of their ability to comply with requests for information and, thus, Commerce is applying an adverse inference in selecting among the facts available, in accordance with section 776(b) of the Act. As adverse facts available, we are assigning these companies a rate of 78.17 percent, which is the highest rate applied in any segment of this proceeding. For a full description of the methodology underlying our conclusions regarding the application of adverse facts available, see the Preliminary Decision Memorandum.

Verification

As provided in section 782(i)(3) of the Act, Commerce intends to verify the information reported by companies in this administrative review for consideration in the final results.

Rate for Non-Examined Companies

The statute and Commerce's regulations do not address the establishment of a weighted-average dumping margin to be determined for companies not selected for individual examination when Commerce limits its examination in an administrative review pursuant to section 777A(c)(2) of the Act. Generally, Commerce looks to section 735(c)(5) of the Act, which provides instructions for calculating the all-others rate in an antidumping duty investigation, for guidance when determining the weighted-average dumping margin for companies which were not selected for individual examination in an administrative review. Under section 735(c)(5)(A) of the Act, the all-others rate is normally “an amount equal to the weighted average of the estimated weighted average dumping margins established for exporters and producers individually investigated, excluding any zero and de minimis margins, and any margins determined entirely {on the basis of facts available}.”

In this review, the preliminary weighted-average dumping margin for YSI is not zero, de minimis, or based entirely on facts otherwise available, whereas other selected mandatory respondents' preliminary weighted-average dumping margins are based entirely on facts available. Therefore, Commerce has preliminarily assigned a weighted-average dumping margin to the non-examined companies that is equal to the weighted-average dumping margin for YSI in accordance with its practice.⁹

⁹ See, e.g., Certain Corrosion-Resistant Steel Products from Taiwan: Final Results of the Antidumping Duty Administrative Review and Final Determination of No Shipments; 2018-1019, 86 FR 28554, 28555 (May 27, 2021).

Preliminary Results of Review

We preliminarily find that the following weighted-average dumping margins exist for the period July 1, 2021, through June 30, 2022:¹⁰

¹⁰ See Appendix II for a list of these companies.

Exporter/producer | Weighted- average dumping margin (percent)
Your Standing International, Inc | 23.16
Shang Jeng Nail Co., Ltd | 78.17
World Kun Company Limited | 78.17
Non-Examined Companies ¹⁰ | 23.16

Disclosure and Public Comment

We intend to disclose the calculations performed for these preliminary results to interested parties with an administrative protective order within five days after the date of public announcement of the preliminary results, or within five days after the publication of the preliminary results in the Federal Register.¹¹

¹¹ See 19 CFR 351.224(b).

Interested parties will be notified of the deadline for the submission of case briefs and written comments at a later date.¹² Rebuttal briefs, limited to issues raised in the case briefs, may be filed not later than seven days after the date for filing case briefs.¹³ Parties who submit case briefs or rebuttal briefs in this proceeding are encouraged to submit with each argument: (1) a statement of the issue; (2) a brief summary of the argument; and (3) a table of authorities.¹⁴ Executive summaries should be limited to five pages total, including footnotes.

¹² See 19 CFR 351.309(c)(1)(ii).

¹³ See 19 CFR 351.309(d)(1) and (2); see also Temporary Rule Modifying AD/CVD Service Requirements Due to COVID-19; Extension of Effective Period, 85 FR 41363 (July 10, 2020) (Temporary Rule).

¹⁴ See 19 CFR 351.309(c)(2) and (d)(2).

Pursuant to 19 CFR 351.310(c), interested parties who wish to request a hearing, limited to issues raised in the case and rebuttal briefs, must submit a written request to the Assistant Secretary for Enforcement and Compliance within 30 days after the date of publication of this notice. Requests should contain: (1) the party's name, address, and telephone number; (2) the number of participants; (3) whether any participant is a foreign national; and (4) a list of issues to be discussed. Issues raised in the hearing will be limited to those raised in the respective case and rebuttal briefs. If a request for a hearing is made, Commerce intends to hold the hearing at a date and time to be determined.

All briefs and hearing requests must be filed electronically using ACCESS ¹⁵ and must be served on interested parties.¹⁶ An electronically filed document must be received successfully in its entirety by ACCESS by 5:00 p.m. Eastern Time. Note that Commerce has temporarily modified certain of its requirements for serving documents containing business proprietary information, until further notice.¹⁷

¹⁵ See 19 CFR 351.303.

¹⁶ See 19 CFR 351.303(f).

¹⁷ See Temporary Rule.

Assessment Rates

Pursuant to section 751(a)(2)(A) of the Act and 19 CFR 351.212(b)(1), Commerce intends to determine, and CBP shall assess, antidumping duties on all appropriate entries of subject merchandise covered by this review. Commerce intends to issue assessment instructions to CBP no earlier than 35 days after the date of publication of the final results of this administrative review in the Federal Register. If a timely summons is filed at the U.S. Court of International Trade, the assessment instructions will direct CBP not to liquidate relevant entries until the time for parties to file a request for a statutory injunction has expired (i.e., within 90 days of publication).

For an individually examined respondent whose weighted-average dumping margin is not zero or de minimis (i.e., less than 0.50 percent), upon completion of the final results, Commerce intends to calculate importer-specific antidumping duty assessment rates on the basis of the ratio of the total amount of dumping calculated for each importer's examined sales to the total entered value of those sales.¹⁸ Where we do not have entered values for all U.S. sales to a particular importer, we will calculate an importer-specific, per-unit assessment rate on the basis of the ratio of the total amount of dumping calculated for the importer's examined sales to the total quantity of those sales. To determine whether an importer-specific, per-unit assessment rate is de minimis, in accordance with 19 CFR 351.106(c)(2), we also will calculate an importer-specific ad valorem ratio based on estimated entered values. Where either a respondent's weighted-average dumping margin is zero or de minimis, or an importer-specific assessment rate is zero or de minimis, we intend to instruct CBP to liquidate appropriate entries without regard to antidumping duties.¹⁹

¹⁸ See 19 CFR 351.212(b)(1).

¹⁹ See 19 CFR 351.106(c)(2); see also Antidumping Proceeding: Calculation of the Weighted-Average Dumping Margin and Assessment Rate in Certain Antidumping Proceedings; Final Modification, 77 FR 8101, 8103 (February 14, 2012).

For entries of subject merchandise during the POR produced by an individually examined respondent for which it did not know its merchandise was destined for the United States, we intend to instruct CBP to liquidate such entries at the all-others rate if there is no rate for the intermediate company(ies) involved in the transaction.²⁰

²⁰ See Antidumping and Countervailing Duty Proceedings: Assessment of Antidumping Duties, 68 FR 23954 (May 6, 2003).

In addition, if we continue to find no shipments of subject merchandise for Astrotech, Region Systems, Region Industries, and/or Region International in the final results, for which we preliminarily find no such shipments during the POR, any suspended entries of subject merchandise associated with these companies will be liquidated at the all-others rate. If we continue to find Concord International, Create Trading, and Wiresmith had no reviewable entries during the POR in the final results, any suspended entries of subject merchandise associated with these companies will be liquidated at the rate applicable to the unaffiliated producers, or the all-others rate if there is no rate for the unaffiliated producers.

For the companies which were not selected for individual examination, we intend to assign an antidumping duty assessment rate equal to the weighted-average dumping margin determined for the non-examined companies in the final results of review.

The final results of this review shall be the basis for the assessment of antidumping duties on entries of merchandise covered by the final results of this review and for future cash deposits of estimated antidumping duties, where applicable.²¹

²¹ See section 751(a)(2)(C) of the Act.

Cash Deposit Requirements

The following cash deposit requirements will be effective for all shipments of the subject merchandise entered, or withdrawn from warehouse, for consumption on or after the publication date of the final results of this administrative review, as provided by section 751(a)(2)(C) of the Act: (1) the cash deposit rate for the companies listed above will be equal to the weighted-average dumping margin established in the final results of this review, except if the rate is less than 0.50 percent and, therefore, de minimis within the meaning of 19 CFR 351.106(c)(1), in which case the cash deposit rate will be zero; (2) for previously reviewed or investigated companies not covered in this review, the cash deposit rate will continue to be the company-specific rate published for the most recently-completed segment of this proceeding in which the company was reviewed; (3) if the exporter is not a firm covered in this review, a prior completed review, or the less-than-fair value (LTFV) investigation, but the producer is, then the cash deposit rate will be the company-specific rate established for the most recently-completed segment of this proceeding for the producer of subject merchandise; and (4) the cash deposit rate for all other producers and exporters will continue to be 2.16 percent, the all-others rate established in the LTFV investigation.²² These cash deposit requirements, when imposed, shall remain in effect until further notice.

²² See Certain Steel Nails From Taiwan: Notice of Court Decision Not in Harmony With Final Determination in Less Than Fair Value Investigation and Notice of Amended Final Determination, 82 FR 55090 (November 20, 2017).

Final Results of the Review

Unless the deadline is otherwise extended, Commerce intends to issue the final results of this administrative review, including the results of our analysis of issues raised by the parties in the written comments, within 120 days of publication of these preliminary results in the Federal Register, pursuant to section 751(a)(3)(A) of the Act and 19 CFR 351.213(h)(1).

Notification to Importers

This notice serves as a preliminary reminder to importers of their responsibility under 19 CFR 351.402(f)(2) to file a certificate regarding the reimbursement of antidumping duties prior to liquidation of the relevant entries during this POR. Failure to comply with this requirement could result in Commerce's presumption that reimbursement of antidumping duties occurred and the subsequent assessment of double antidumping duties.

Notification to Interested Parties

These preliminary results are issued and published in accordance with sections 751(a)(1) and 777(i)(1) of the Act, 19 CFR 351.213(d)(4), and 19 CFR 351.221(b)(4).

Dated: July 28, 2023.
Lisa W. Wang,
Assistant Secretary for Enforcement and Compliance.

Appendix I

List of Topics Discussed in the Preliminary Decision Memorandum

I. Summary

II. Background

III. Scope of the Order

IV. Affiliation

V. Partial Rescission of Review

VI. Preliminary Determinations of No Shipments and No Reviewable Sales

VII. Application of Facts Available and Use of Adverse Inference

VIII. Rate for Non-Selected Companies

IX. Discussion of the Methodology

X. Currency Conversion

XI. Recommendation

Appendix II

Companies Not Selected for Individual Examination

1. A-Jax Enterprises Limited

2. A-Jax International Company Limited

3. A-Stainless International Company Limited

4. Advanced Global Sourcing Limited

5. Aimreach Enterprises Company Limited

6. Alisios International Corporation

7. Allwin Architectural Hardware Inc.

8. A.N. Cooke Manufacturing Co., Pty., Limited

9. Asia Engineered Components

10. Asia Link Industrial Corporation

11. Asia Smarten Way Corp. (Taiwan)

12. Autolink International Company Limited

13. BCR Inc.

14. Bestwell International Corporation

15. Boss Precision Works Co., Ltd.

16. Budstech CI Limited

17. Bulls Technology Company Limited

18. Canatex Industrial Company Limited

19. Cata Company Limited

20. Cenluxmetals Company Limited

21. Chang Bin Industrial Co., Ltd.

22. Channg Chin Industry Corporation

23. Charng Yu Industrial Company

24. Chen Nan Iron Wire Co., Ltd.

25. Chen Yu-Lan

26. Chia Da Fastener Company Limited

27. Chiang Shin Fasteners Industries Ltd.

28. Chin Tai Sing Precision Manufactory Co., Ltd.

29. Chun Yu Works & Company Limited

30. Cross International Co., Ltd.

31. Da Wing Industry Company Limited

32. Dar Yu Enterprise Co., Ltd.

33. Eagre International Trade Co., Ltd.

34. Ever-Top Hardware Corporation

35. Excel Components Manufacturing Co., Ltd.

36. Fastguard Fastening Systems Inc.

37. Fastnet Corporation

38. Fujian Xinhong Mech. & Elec. Co., Ltd.

39. Funtec International Co., Ltd.

40. Fuzhou Royal Floor Co., Ltd.

41. FWU Kuang Enterprise Co., Ltd.

42. GoFast Company Limited

43. H-H Fasteners Company

44. H-Locker Components Inc.

45. Hau Kawang Enterprise Co., Ltd.

46. Hecny Group

47. Hi-Sharp Industrial Corp., Ltd.

48. Hom Wei Enterprise Corporation

49. HWA Hsing Screw Industry Co., Ltd.

50. Hwaguo Industrial Fasteners Co., Ltd.

51. Hy-Mart Fastener Co., Ltd.

52. Hyup Sung Indonesia

53. In Precision Link Co., Ltd.

54. Intai Technology Corporation

55. JCH Hardware Company Inc.

56. Jet Crown International Co., Ltd.

57. Ji Li Deng Fasteners Co., Ltd.

58. Jinhai Hardware Co., Ltd.

59. Jinn Her Enterprise Limited

60. Jockey Ben Metal Enterprise Co., Ltd.

61. Kan Good Enterprise Co., Ltd.

62. Katsuhana Fasteners Corporation

63. Kay Guay Enterprises Co., Ltd.

64. Key Use Industrial Works Co., Ltd.

65. KOT Components Co., Ltd.

66. K. Ticho Industries Co., Ltd.

67. K Win Fasteners Inc.

68. Kuan Hsin Screw Industry Co., Ltd.

69. Liang Ying Fasteners Industry Co., Ltd.

70. Long Chan Enterprise Co., Ltd.

71. Lu Chu Shin Yee Works Co., Ltd.

72. Mechanical Hardwares Co.

73. Midas Union Co., Ltd.

74. Min Hwei Enterprise Co., Ltd.

75. Ming Cheng Precision Co., Ltd.

76. Ming Zhan Industrial Co., Ltd.

77. ML Global Ltd.

78. Newfast Co., Ltd.

79. Noah Enterprise Co., Ltd.

80. Nytaps Taiwan Corporation

81. Pao Shen Enterprises Co., Ltd.

82. Par Excellence Industrial Co., Ltd.

83. Pengteh Industrial Co., Ltd.

84. Pneumax Corp.

85. Printech T Electronics Corporation

86. Pro-an International Co., Ltd.

87. Pronto Great China Corp.

88. Professional Fasteners Development Co., Ltd.

89. P.S.M. Fasteners (Asia) Limited

90. Qi Ding Enterprise Co., Ltd.

91. Right Source Co., Ltd.

92. Rodex Fasteners Corp.

93. Rong Chang Metal Co., Ltd.

94. San Shing Fastech Corporation

95. SBSCQ Taiwan Limited

96. Shanxi Pioneer Hardware Industrial Co., Ltd.

97. Somax Enterprise Co., Ltd.

98. Spec Products Corporation

99. Star World Product and Trading Co., Ltd.

100. Sumeeko Industries Co., Ltd.

101. Sunshine Spring Co., Ltd.

102. Suntec Industries Co., Ltd.

103. Supreme Fasteners Corp.

104. Szu I Industries Co., Ltd.

105. Tag Fasteners Sdn. Bhd.

106. Taifas Corporation

107. Taiwan Geer-Tai Works Co., Ltd.

108. Taiwan Quality Fastener Co., Ltd.

109. Team Builder Enterprise Limited

110. Techno Associates Taiwan Co., Ltd.

111. Techup Development Co., Ltd.

112. TG Co., Ltd.

113. Tianjin Jinchi Metal Products Co. Ltd.

114. Topps Wang International Ltd.

115. Ume-Pride International Inc.

116. Unistrong Industrial Co., Ltd.

117. United Nail Products Co. Ltd.

118. Vanguard International Co., Ltd.

119. Wa Tai Industrial Co., Ltd.

120. Win Fastener Corporation

121. WTA International Co., Ltd.

122. Wumax Industry Co., Ltd.

123. Wyser International Corporation

124. Yeun Chang Hardware Tool Company Limited

125. Yng Tran Enterprise Company Limited

126. Yoh Chang Enterprise Company Limited

127. Yow Chern Company

128. Yumark Enterprises Corporation

129. Yu Tai World Co., Ltd.

130. Zenith Good Enterprise Corporation

[FR Doc. 2023-16581 Filed 8-2-23; 8:45 am]

BILLING CODE 3510-DS-P